DEPARTMENT OF DEFENSE

Office of the Secretary

[Docket ID: DoD-2018-OS-0085]

Submission for OMB Review; Comment Request

AGENCY: Office of the Under Secretary of Defense for Research and Engineering, DoD.

ACTION: 30-Day information collection notice.

SUMMARY: The Department of Defense has submitted to OMB for clearance the following proposal for collection of information under the provisions of the Paperwork Reduction Act.

DATES: Consideration will be given to all comments received by March 14, 2019.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION: Title; Associated Form; and OMB Number: Research Progress Production Report (RPPR); OMB Control Number 0704-0527.

Type of Request: Reinstatement.

Number of Respondents: 2,000.

Responses per Respondent: 2.

Annual Responses: 4,000.

Average Burden per Response: 6 hours.

Annual Burden Hours: 24,000.

Needs and Uses: The information collection requirement is necessary to: (a) Monitor Federal awards and ensure compliance with applicable terms and conditions of award regulations, policies, and procedures; (b) evaluate progress/completion in accordance with goals, aims, and objectives set forth in competing applications and to determine if the grantee satisfactorily met the objectives of the program; (c) evaluate grantee plans for the next budget period and any significant changes; (d) manage scientific programs; (e) plan future scientific initiatives; (f) determine funding for the next budget segment; (g) identify any publications, inventions, property disposition, and other required elements to close out the grant in a timely manner; and (f) complete reports to Congress, the public, and other Federal agencies.

Affected Public: Business or other for-profit; not-for-profit institutions; and state, local, or tribal government.

Frequency: Semi-annually.

Respondent's Obligation: Required to obtain or retain benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Frederick Licari

Requests for copies of the information collection proposal should be sent to Mr. Licari at whs.mc-alex.esd.mbx.dd-dod-information-collections@mail.mil.

Dated: February 7, 2019.
Shelly E. Finke,
Alternate OSD Federal Register, Liaison Officer, Department of Defense.

[FR Doc. 2019-02041 Filed 2-11-19; 8:45 am]

BILLING CODE 5001-06-P